DEPARTMENT OF STATE

[Public Notice 9920]

Notice of Public Meeting of the International Telecommunication Advisory Committee and Preparations for Upcoming International Telecommunications Meetings

This notice announces a meeting of the Department of State's International Telecommunication Advisory Committee (ITAC) to review recent activities of the Department of State in international meetings on international communications and information policy and prepare for similar activities in the next quarter. The ITAC will meet on April 27, 2017 at 2:00 p.m. EST at ITIC, 1101 K St NW #610, Washington, DC 20005 to discuss the preparatory process for multilateral meetings, the results of recent events, and preparations for upcoming meetings at the International Telecommunication Union and the Inter-American Telecommunications Commission of the Organization of American States. The meeting will focus on the following topics:

• Americas Regional Preparatory Meeting (RPM) for the International Telecommunication Union (ITU) World Telecommunication Development Conference (WTDC)

• ITU Development Sector (ITU-D) Study Groups 1/2

• ITU Council Working Groups and Experts Group on International Telecommunications Regulations (ITRs)

• Inter-American Telecommunication Commission (CITEL)

• ITU Council

• World Summit on the Information Society (WSIS) Forum

• Telecommunication Development Advisory Group (TDAG)

• Telecommunication Standardization Advisory Group (TSAG)

• WTDC-17

• Telecommunication Radiocommunication Sector (ITU-R) Study Group

• Telecommunication Standardization Sector (ITU-T) Study Group

• 2018 ITU Plenipotentiary Conference (PP-18)

PP-18 will take place in Dubai, United Arab Emirate, from—October 29 to November 17, 2018. The Plenipotentiary Conference, which takes place every four years, is the highest policy-making body of the Union. PP-18 will determine the overall policy direction of the ITU; adopt the strategic and financial plans for the next four years; elect the 48 members of Council, 12 members of the Radio Regulations Board, and five Elected Officials; and consider and adopt, if appropriate, modifications to the ITU Constitution and Convention. The Department seeks advice from stakeholders and interested parties to inform its upcoming preparations for PP-18, to include but not limited to input on the following questions:

1. Maintaining the stability of the Constitution and Convention and the mandate of ITU, the Strategic and Financial Plans, Internet-related issues, and elections are typical U.S. priorities for a plenipotentiary conference. Should these remain U.S. priorities? What other U.S. priorities should be considered?

2. Should the United States propose to initiate a process of ITU reform at PP-18? If so, what areas for reform should be prioritized?

3. What are the major areas of concern for PP-18 and how should the United States address them?

Comments in Microsoft Word or Adobe PDF may also be submitted electronically to ITAC@state.gov on or before April 27, 2017.

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any. Persons wishing to request reasonable accommodation during the meeting should send their requests to ITAC@state.gov no later than April 14, 2017. Requests made after that time will be considered, but might not be able to be fulfilled.

For Further Information Contact: Please send all inquiries to ITAC@state.gov.

Julie N. Zoller,
Acting Coordinator, International Communications and Information Policy, U.S. Department of State.

[FR Doc. 2017-05456 Filed 3-17-17; 8:45 am]

BILLING CODE 4710-AE-P